DEPARTMENT OF THE INTERIOR

Bureau of Land Management

[LLCOF00000-L19900000.PO0000]

Notice of Meeting, Front Range Resource Advisory Council

AGENCY: Bureau of Land Management, Interior.

ACTION: Notice of Public Meeting.

SUMMARY: In accordance with the Federal Land Policy and Management Act (FLPMA) and the Federal Advisory Committee Act of 1972 (FACA), the U.S. Department of the Interior, Bureau of Land Management (BLM) Front Range Resource Advisory Council (RAC), will meet as indicated below.

DATES: The meeting will be held on June 4 and 5, 2014, from 9:15 a.m. to 4:15 p.m.

ADDRESSES: Bureau of Land Management, Royal Gorge Field Office, 3028 E. Main Street, Cañon City, CO 81212.

FOR FURTHER INFORMATION CONTACT: Kyle Sullivan, Front Range RAC Coordinator, BLM Front Range District Office, 3028 E. Main St., Cañon City, CO 81212. Phone: (719) 269-8553. Email: ksullivan@blm.gov. Persons who use a telecommunications device for the deaf (TDD) may call the Federal Information Relay Service (FIRS) at 1-800-877-8339 to contact the above individual during normal business hours. The FIRS is available 24 hours a day, seven days a week, to leave a message or question with the above individual. You will receive a reply during normal business hours.

SUPPLEMENTARY INFORMATION: The 15-member RAC advises the Secretary of the Interior, through the BLM, on a variety of planning and management issues associated with public land management in the BLM Front Range District, which includes the Royal Gorge Field Office (RGFO) and the San Luis Valley Field Office. Planned topics of discussion include: recognition of service for outgoing RAC members, an update from field managers, discussion of the BLM's planning process, discussion of issues at Guffey Gorge and a tour of Guffey Gorge. The public is encouraged to make oral comments to the RAC at 9:45 a.m. on June 4 or written statements may be submitted for the RAC's consideration. Summary minutes for the RAC meetings will be maintained in the RGFO and will be available for public inspection and reproduction during regular business hours within thirty (30) days following the meeting. Previous meeting minutes and agendas are available at: www.blm.gov/co/st/en/BLM_Resources/racs/frrac/co_rac_minutes_front.html.

Bruce Rittenhouse,
Acting Colorado State Director.

[FR Doc. 2014-10184 Filed 5-2-14; 8:45 am]

BILLING CODE 4310-JB-P